DEPARTMENT OF HOMELAND SECURITY

Federal Emergency Management Agency

[Docket ID FEMA-2024-0002; Internal Agency Docket No. FEMA-B-2474]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Online location of letter of map revision | Date of modification | Community No.
Arizona
Maricopa | City of Goodyear (23-09-0729P). | The Honorable Joe Pizzillo, Mayor, City of Goodyear, 1900 North Civic Square, Goodyear, AZ 85395. | Engineering and Development Services, 14455 West Van Buren Street, Suite D101, Goodyear, AZ 85338. | https://msc.fema.gov/portal/advanceSearch. | Nov. 29, 2024 | 040046
Maricopa | City of Peoria (23-09-1280P). | The Honorable Jason Beck, Mayor, City of Peoria, 8401 West Monroe Street, Peoria, AZ 85345. | City Hall, 8401 West Monroe Street, Peoria, AZ 85345. | https://msc.fema.gov/portal/advanceSearch. | Nov. 29, 2024 | 040050
Maricopa | City of Surprise (24-09-0009P). | The Honorable Skip Hall, Mayor, City of Surprise, 16000 North Civic Center Plaza, Surprise, AZ 85374. | Public Works Department, Engineering Services Department, 16000 North Civic Center Plaza, Surprise, AZ 85374. | https://msc.fema.gov/portal/advanceSearch. | Dec. 6, 2024 | 040053
Maricopa | Unincorporated Areas of Maricopa County (22-09-1095P). | The Honorable Jack Sellers, Chair, Maricopa County, Board of Supervisors, 301 West Jefferson Street, 10th Floor, Phoenix, AZ 85003. | Maricopa County Flood Control District, 2801 West Durango Street, Phoenix, AZ 85009. | https://msc.fema.gov/portal/advanceSearch. | Nov. 29, 2024 | 040037
Maricopa | Unincorporated Areas of Maricopa County (23-09-1280P). | The Honorable Jack Sellers, Chair, Maricopa, County Board of Supervisors, 301 West Jefferson Street, 10th Floor ,Phoenix, AZ 85003. | Maricopa County Flood Control District, 2801 West Durango Street, Phoenix, AZ 85009. | https://msc.fema.gov/portal/advanceSearch. | Nov. 29, 2024 | 040037
Maricopa | Unincorporated Areas of Maricopa County (24-09-0009P). | The Honorable Jack Sellers, Chair, Maricopa County, Board of Supervisors, 301 West Jefferson Street, 10th Floor, Phoenix, AZ 85003. | Maricopa County Flood Control District, 2801 West Durango Street, Phoenix, AZ 85009. | https://msc.fema.gov/portal/advanceSearch. | Dec. 6, 2024 | 040037
Yavapai | City of Cottonwood (22-09-0848P). | The Honorable Tim Elinski, Mayor, City of Cottonwood, 827 North Main Street, Cottonwood, AZ 86326. | Public Works Department, 1490 West Mingus Avenue, Cottonwood, AZ 86326. | https://msc.fema.gov/portal/advanceSearch. | Nov. 29, 2024 | 040096
Yavapai | Town of Clarkdale (22-09-0848P). | The Honorable Robyn Prud'Homme-Bauer, Mayor, Town of Clarkdale, 39 North 9th Street, Clarkdale, AZ 86324. | Public Works Department, 890 Main Street, Clarkdale, AZ 86324. | https://msc.fema.gov/portal/advanceSearch. | Nov. 29, 2024 | 040095
Yavapai | Unincorporated Areas of Yavapai County (22-09-0848P). | The Honorable Craig L. Brown, Chair, Yavapai County, Board of Supervisors, 10 South 6th Street, Cottonwood, AZ 86326. | Yavapai County Flood Control District, 1120 Commerce Drive, Prescott, AZ 86305. | https://msc.fema.gov/portal/advanceSearch. | Nov. 29, 2024 | 040093
California:
Riverside | City of Perris (24-09-0210P). | The Honorable Michael Vargas, Mayor, City of Perris, 101 North D Street, Perris, CA 92570. | Engineering Department, 24 South D Street, Suite 100, Perris, CA 92570. | https://msc.fema.gov/portal/advanceSearch. | Dec. 9, 2024 | 060258
Riverside | Unincorporated Areas of Riverside County (24-09-0210P). | The Honorable Chuck Washington, Chair, Riverside County, Board of Supervisors, 4080 Lemon Street, 5th Floor Riverside, CA 92501. | Riverside County Flood Control and Water Conservation District, 1995 Market Street, Riverside, CA 92501. | https://msc.fema.gov/portal/advanceSearch. | Dec. 9, 2024 | 060245
Idaho:
Lemhi | City of Salmon (23-10-0431P). | The Honorable Todd Nelson, Mayor, City of Salmon, 200 Main Street, Salmon, ID 83467. | City Hall, 200 Main Street, Salmon, ID 83467. | https://msc.fema.gov/portal/advanceSearch. | Dec. 13, 2024 | 160093
Indiana:
Boone | Town of Zionsville (22-05-2053P). | The Honorable John Stehr, Mayor, Town of Zionville, 1100 West Oak Street, Zionsville, IN 46077. | Planning Department, 1100 West Oak Street, Zionsville, IN 46077. | https://msc.fema.gov/portal/advanceSearch. | Nov. 27, 2024 | 180016
Hamilton | City of Carmel (22-05-2053P). | The Honorable Sue Finkam, Mayor, City of Carmel, 1 Civic Square, Carmel, IN 46032. | Department of Community Services, 1 Civic Square, Carmel, IN 46032. | https://msc.fema.gov/portal/advanceSearch. | Nov. 27, 2024 | 180081
Hamilton | City of Westfield (22-05-2053P). | The Honorable Scott Willis, Mayor, City of Westfield, 2728 East 171st Street, Westfield, IN 46074. | City Hall, 130 Penn Street, Westfield, IN 46074. | https://msc.fema.gov/portal/advanceSearch. | Nov. 27, 2024 | 180083
Hamilton | Unincorporated Areas of Hamilton County (22-05-2053P). | Mark Heirbrandt, President, Hamilton County Board of Commissioners, 1 Hamilton County Square, Suite 157, Noblesville, IN 46060. | Hamilton County Planning Commission, 1 Hamilton County Square, Noblesville, IN 46060. | https://msc.fema.gov/portal/advanceSearch. | Nov. 27, 2024 | 180080
Nevada:
Washoe | City of Reno (24-09-0149P). | The Honorable Hillary Schieve, Mayor, City of Reno, P.O. Box 1900, Reno, NV 89505. | City Hall, 1 East 1st Street, Reno, NV 89501. | https://msc.fema.gov/portal/advanceSearch. | Dec. 3, 2024 | 320020
Washoe | Unincorporated Areas of Washoe County (24-09-0149P). | The Honorable Alexis Hill, Chair, Washoe County, Board of Commissioners, 1001 East 9th Street, Building A, Reno, NV 89512. | Washoe County, Administration Building, Department of Public Works, 1001 East 9th Street, Reno, NV 89512. | https://msc.fema.gov/portal/advanceSearch. | Dec. 3, 2024 | 320019

[FR Doc. 2024-28587 Filed 12-5-24; 8:45 am]

BILLING CODE 9110-12-P